DEPARTMENT OF LABOR

Occupational Safety and Health Administration

29 CFR Part 1910

[Docket No. H-371]

RIN 1218-AB46

Occupational Exposure to Tuberculosis

AGENCY: Occupational Safety and Health Administration (OSHA), Labor.

ACTION: Extension of comment period.

SUMMARY: On January 24, 2002, OSHA re-opened the rulemaking record (67 FR 3465) for 60 days to submit to the record the Agency's final draft risk assessment, peer review reports on the draft final risk assessment, and the National Academy of Sciences/Institute of Medicine (NAS/IOM) report “Tuberculosis in the Workplace” and to request comments on these documents. OSHA is extending the deadline for 60 days from March 25, 2002 until May 24, 2002, to allow interested parties additional time for submitting their comments to the record.

DATES: Comments and data must be postmarked no later than May 24, 2002. Comments submitted electronically or by FAX must be submitted by May 24, 2002.

ADDRESSES: Send two copies of your comments to: Docket Office, Docket H-371, Room N-2625, Occupational Safety and Health Administration, U.S. Department of Labor, 200 Constitution Avenue, NW, Washington, DC 20210. Comments of 10 pages or fewer may be transmitted by FAX to: 202-693-1648, provided that the original and one copy of the comments are sent to the Docket Office immediately thereafter.

You may also submit comments electronically to http://ecomments.osha.gov. Information such as studies and journal articles cannot be attached to electronic submissions and must be submitted in duplicate to the Docket Office address listed above. Such attachments must clearly identify the respondent's electronic submission by name, date, and subject, so that they can be attached to the correct submission.

The entire record for the TB rulemaking, including the peer reviewers' reports, OSHA's draft final risk assessment and the NAS/IOM report, is available for inspection and copying in the Docket Office, Docket H-371, telephone 202-693-2350.

FOR FURTHER INFORMATION CONTACT: Amanda Edens, Directorate of Health Standards Programs, Occupational Safety and Health Administration, Room N-3718, U.S. Department of Labor, 200 Constitution Avenue, NW, Washington, DC 20210, Telephone (202) 693-2270, FAX (202) 693-1678.

SUPPLEMENTARY INFORMATION: On October 17, 1997, OSHA published a proposed standard for Occupational Exposure to TB (62 FR 54160). In the proposal, the Agency made a preliminary determination based on a review of the available data that workers in hospitals, nursing homes, hospices, correctional facilities, homeless shelters, and certain other work settings are at significant risk of incurring TB infection while caring for their patients and clients or performing certain procedures potentially involving exposure to TB.

Many persons submitted comments addressing OSHA's preliminary quantitative risk assessment and suggested that OSHA should use more current data in developing its final quantitative risk assessment. In response to these concerns, OSHA reopened the rulemaking record for 30 days to solicit data and comments with respect to assessing the occupational risk of TB infection and disease (64 FR 34625, June 28, 1999). After reviewing all comments in the expanded record, the Agency revised its preliminary quantitative risk assessment to produce a draft final risk assessment. (Ex. 184) The Agency then chose to have this draft final risk assessment peer reviewed by two experts in the fields of TB epidemiology and risk assessment. The peer reviewers selected were Dr. Richard Menzies and Dr. Mark Nicas. Dr. Menzies, Professor and Director of the Respiratory Epidemiology Unit at McGill University in Montreal, Canada, is a physician experienced in the epidemiology, diagnosis, and treatment of TB and is a recognized research scientist, having published numerous scientific papers in the area of occupational exposure to and treatment of TB. Dr. Menzies is also an expert in the use of tuberculin skin testing as a diagnostic test for infection. Dr. Mark Nicas, Professor at the University of California Berkeley and a Certified Industrial Hygienist, is a recognized research scientist, having published numerous scientific papers in the area of occupational exposure to TB and the development of mathematical models for TB transmission. These two reviewers evaluated the overall methodology used by OSHA in the draft final risk assessment, the appropriateness of these studies for the exposure scenarios, the adequacy of the mathematical models, the values of the parameters used to estimate the TB case activation and death rates, the use and estimates of state background infection rates, and the uncertainties associated with the OSHA risk estimates. (Exs. 185 and 186)

In 1999, the U.S. Congress requested that the National Academy of Sciences undertake a short-term study of occupational TB (Pub. L. 106-113) including evaluation of the risks to health care workers due to occupational exposure to TB, the extent to which the TB guidelines of the Centers for Disease Control and Prevention are being implemented, and the potential effectiveness of an OSHA TB standard to protect workers from occupational exposure to TB. The report that was prepared by the IOM, the health policy arm of the Academy, was released on January 16, 2001. In view of the significance of this report, OSHA also placed this report in the record for comment. (Ex. 187)

On February 13, 2002, the Association for Professionals in Infection Control and Epidemiology (APIC), the American Health Care Association (AHCA), and the American Society for Microbiology (ASM), requested from the Secretary of Labor a 60 day extension of the deadline for submitting comments. The letter stated that the APIC, AHCA and ASM believed that the current deadline did not provide sufficient time for a thorough examination of the new risk assessment documents OSHA had added to the rulemaking record.

Risk assessment, as well as the other issues addressed in the re-opening of the record, continues to be of concern to OSHA, and the Agency wants to ensure that all interested parties have ample time to submit comments. Therefore, OSHA has decided to extend the deadline for submitting comments an additional 60 days from March 25, 2002 until May 24, 2002.

Authority: This document was prepared under the direction of John L. Henshaw, Assistant Secretary of Labor for Occupational Safety and Health, U.S. Department of Labor, 200 Constitution Avenue, NW, Washington, DC 20210. It is issued under section 6(b) of the Occupational Safety and Health Act of 1970 (29 U.S.C 655), Secretary of Labor's Order No. 3-2000 (65 FR 50017) and 29 CFR part 1911.

Signed at Washington, DC, this 27th day of February, 2002.
John L. Henshaw,
Assistant Secretary of Labor.

[FR Doc. 02-5160 Filed 3-4-02; 8:45 am]

BILLING CODE 4510-26-P